DEPARTMENT OF TRANSPORTATION

Office of the Secretary

Aviation Proceedings, Agreements Filed the Week Ending January 24, 2003

The following Agreements were filed with the Department of Transportation under the provisions of 49 U.S.C. Sections 412 and 414. Answers may be filed within 21 days after the filing of the application.

Docket Number: OST-2003-14365.

Date Filed: January 23, 2003.

Parties: Members of the International Air Transport Association.

Subject:

PTC23 EUR-SEA 0158 dated 17 December 2002.

TC23/TC123 Europe-South East Asia Resolutions r1-r19.

PTC23 EUR-SEA 0159 dated 10 January 2003

(Technical Correction).

Minutes—PTC23 EUR-SEA 0161 dated 21 January 2003.

Tables—PTC23 EUR-SEA FARES 0039 dated 3 January 2003.

Intended effective date: 1 April 2003.

Dorothy Y. Beard,
Chief, Docket Operations & Media Management, Federal Register Liaison.

[FR Doc. 03-2527 Filed 2-3-03; 8:45 am]

BILLING CODE 4910-62-P